DEPARTMENT OF TRANSPORTATION

National Highway Traffic Safety Administration

49 CFR Part 571

[Docket No. NHTSA-2002-12347]

RIN 2127-AI52

Federal Motor Vehicle Safety Standards; Rearview Mirrors

AGENCY: National Highway Traffic Safety Administration (NHTSA), Department of Transportation (DOT).

ACTION: Notice of withdrawal of rulemaking.

SUMMARY: In response to a petition for rulemaking submitted by Ms. Barbara Sanford, NHTSA published a Request for Comments (RFC) in the Federal Register on January 22, 2003 that included several questions regarding convex mirrors on commercial trucks. The Sanford petition asked the agency to amend our Federal Motor Vehicle Safety Standard (FMVSS) for rearview mirrors to require that all commercial trucks traveling on interstate highways have convex mirrors affixed to their front right and left fenders in order to provide drivers of these vehicles an increased field-of-view during lane change maneuvers, which the petitioner stated is necessary to eliminate a blind spot caused by the elevated position of commercial truck drivers relative to passenger cars. Prior to receiving the Sanford petition, the agency had decided to conduct research on heavy truck mirror systems, including fender-mounted mirrors. For reasons discussed in this document, the agency is withdrawing the RFC and is terminating this rulemaking, because additional research is necessary to assess the potential safety benefits of convex mirrors in this application.

FOR FURTHER INFORMATION CONTACT: For non-legal issues: Mr. David M. Hines, Office of Crash Avoidance Standards, Telephone number: (202) 493-0245, FAX number: (202) 366-7002. For legal issues: Mr. Eric Stas, Office of the Chief Counsel, Telephone number: (202) 366-2992, FAX number: (202) 366-3820. You may send mail to either of these officials at NHTSA, 400 Seventh Street, S.W., Washington, DC 20590.

SUPPLEMENTARY INFORMATION:

I. Background

Federal Motor Vehicle Safety Standard No. 111, Rearview mirrors, does not require, nor restrict, the use of convex mirrors on heavy trucks such as the ones identified in the Sanford petition.¹ Instead, multipurpose passenger vehicles and trucks with a Gross Vehicle Weight Rating (GVWR) of more than 4,536 kg (10,000 lbs.) are required to have outside mirrors of unit magnification with stable supports on both sides of the vehicle; these mirrors must be located to provide the driver a view to the rear along both sides of the vehicle and be adjustable in both the horizontal and vertical directions. Regarding the use of convex mirrors on heavy trucks in the fleet, the agency previously noted that they are being used extensively by the heavy trucking industry, and that informal surveys by NHTSA staff suggested that approximately two-thirds of large trucks (excluding cab over designs) were equipped with convex mirrors on only the right front fender and approximately half were equipped with convex mirrors on both front fenders.

¹ Docket No. NHTSA-2002-12347.

As noted above, NHTSA published a RFC on January 22, 2003 regarding convex mirrors on commercial trucks (68 FR 2993).² The agency received 24 comments in response to our published RFC from automobile and automobile equipment manufacturers, trade associations, public interest groups, and individuals. These comments may be viewed at: http://dms.dot.gov/search/searchFormSimple.cfm (Docket No. 12347).³ Several of the comments provided insight on convex mirrors generally. However, none of the responses included data demonstrating safety benefits associated with requiring convex mirrors on the front right and left fenders of commercial trucks.

² Docket No. NHTSA-2002-12347-1.

³ We note that the comments in the docket also address another petition involving a request from AM General Corporation to permit vehicles with a GVWR of more than 4,536 kg and with an overall length that is less than 508 centimeters to have the option of being equipped with a passenger-side convex mirror instead of the required passenger-side mirror of unit magnification.

The agency has contracted with Virginia Tech Transportation Institute (VTTI) to conduct research on heavy truck mirror systems. The agency identified the objective of the study as assessing side and rearward visibility of heavy trucks, documenting current mirror design and aiming, developing a method to evaluate mirror fields of view, and recommending enhanced mirror design and aiming. Results of that research will be posted on our Web site (http://www.nhtsa.dot.gov) when it is completed.

II. Reason for Termination

After careful consideration, NHTSA has decided to withdraw this rulemaking. The agency believes further research on front fender-mounted convex mirrors is needed in order to draw appropriate conclusions as to the efficacy of these devices, and we are currently in the process of conducting such research. If this research indicates a need for future rulemaking, the agency will act accordingly.

The agency arrived at this decision to terminate after reviewing the comments received and identifying the need for additional research data upon which to propose any rulemaking. While no reference to available data regarding demonstrated safety benefits of front fender-mounted convex mirrors was submitted, some responses did address the prevalence and cost of these mirrors on heavy trucks.

For example, Mr. Roger Brock, an individual, referred to an informal interstate survey of tractor-trailer combinations involving 336 units that found approximately 64% of the subject trucks had a front fender-mounted convex mirror on at least one side and approximately 46% had them on both sides. The Truck Manufacturers Association (TMA) responded that sales data from six manufacturers from the prior 2-3 years demonstrated a range from 7% to 72%, varying by manufacturer, of trucks sold were equipped with hood/fender-mounted convex mirrors. TMA also estimated the list prices for such mirrors to vary from $65 to $225 per mirror. The American Trucking Associations agreed that a significant portion of commercial motor vehicles currently use fender-mounted mirrors but stated that some configurations of trucks or truck tractors will not permit the use of such mirrors due to those vehicles' specialized applications.

In light of the absence of available safety data, the currently high rate of voluntary installation of convex mirrors on commercial trucks, and our as-yet incomplete research program, the agency has decided to withdraw this rulemaking. Nevertheless, the agency remains interested in reducing truck mirror blind spots and will thoroughly review the VTTI research results in its efforts to understand the relevant safety issues associated with front fender-mounted convex mirrors.

Authority: 49 U.S.C. 322, 30111, 30115, 30117, and 30166; delegations of authority at 49 CFR 1.50 and 501.8.

Issued on: September 20, 2005.
Stephen R. Kratzke,
Associate Administrator for Rulemaking.

[FR Doc. 05-19666 Filed 9-30-05; 8:45 am]

BILLING CODE 4910-59-P